DEPARTMENT OF AGRICULTURE

Submission for OMB Review; Comment Request

April 16, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Procurement and Property Management

Title: Voluntary Labeling Program for Biobased Products.

OMB Control Number: 0503-0020.

Summary of Collection: Section 9002 of the Farm Security and Rural Investment Act (FSRIA) of 2002, as amended by the Food, Conservation, and Energy Act (FCEA) of 2008 and the Agricultural Act of 2014, requires the Secretary of Agriculture to implement a voluntary labeling program that would enable qualifying biobased products to be labeled with a “USDA Certified Biobased Product” label. The labeling program is required to be consistent, where possible, with the guidelines implementing the preferred procurement of biobased products by Federal agencies (referred to hereafter as the preferred procurement program), which is also authorized under section 9002 of FSRIA. Under the preferred procurement program, Federal agencies are required to purchase with certain exceptions, biobased products that are identified, by rulemaking, for preferred procurement. The BioPreferred Program is implemented by USDA's Office of Procurement and Property Management (OPPM).

Need and Use of the Information: Under the voluntary labeling program, manufacturers and vendors must complete an application for each biobased product for which they wish to use the label. The application process is electronic and is accessible through the voluntary labeling program Web site. In addition manufacturers and vendors whose applications have been conditionally approved must provide to OPPM certain information for posting by OPPM on the voluntary labeling program Web site. For each product approved by the Agency for use of the label, the manufacturer or vendor must keep that information for each certified product up-to-date. Failure to require manufacturers and vendors to provide up-to-date information on each certified product to OPPM for posting on the voluntary labeling program Web site could result in purchasers making poor purchase decisions and in inefficiencies in making purchasing decisions.

Description of Respondents: Business or other for-profit.

Number of Respondents: 300.

Frequency of Responses: Reporting: Other (once).

Total Burden Hours: 3,600.

Ruth Brown,
Departmental Information Collection Clearance Officer.

[FR Doc. 2014-09088 Filed 4-21-14; 8:45 am]

BILLING CODE 3410-TX-P